DEPARTMENT OF COMMERCE

National Oceanic and Atmospheric Administration

50 CFR Part 660

[Docket No. 040618188-4265-02; I.D. 061404A]

RIN 0648-AS26

Fisheries Off West Coast States and in the Western Pacific; Pacific Coast Groundfish Fishery; Correction

AGENCY: National Marine Fisheries Service (NMFS), National Oceanic and Atmospheric Administration (NOAA), Commerce.

ACTION: Final rule; correction.

SUMMARY: This document corrects a final rule that implemented Amendment 16-3 to the Pacific Coast Groundfish Fishery Management Plan (FMP). This document corrects amendatory instruction 2.

DATES: Effective October 28, 2004.

FOR FURTHER INFORMATION CONTACT: Jamie Goen (Northwest Region, NMFS), phone: (206) 526-4646; fax: 206-526-6736; and email: jamie.goen@noaa.gov.

SUPPLEMENTARY INFORMATION:

Electronic Access

This final rule also is accessible via the Internet at the Office of the Federal Register's website at www.gpoaccess.gov/fr/index/html and at the NMFS Northwest Region website at www.nwr.noaa.gov/1sustfsh/gfsh/gdfsh/gdfsh01.html.

Background

NMFS published a final rule implementing Amendment 16-3 on September 28, 2004 (69 FR 57874). That final rule updated the list of rockfish species defined in the Code of Federal Regulations to match that listed in the FMP and corrected dusty rockfish to read dusky rockfish. In that final rule, dusty rockfish was mistakenly listed as dusky rockfish in the instruction language for which species was to be removed. This document corrects that amendatory instruction language.

Correction

As published, the final rule FR Doc. 04-21691, September 28, 2004, (69 FR 57874), contains an error and needs to be corrected.

§ 660.302 [Corrected]

1. On page 57881, in the third column, amendatory instruction 2 is corrected to read “In § 660.302, in the definition of “Groundfish,” under “Rockfish:” remove “dusty rockfish, S. ciliatus,” and add “chameleon rockfish, S. phillipsi,” “dwarf-red rockfish, S. rufinanus,” “dusky rockfish, S. ciliatus,” “freckled rockfish, S. lentiginosus,” “half-banded rockfish, S. semicinctus,” “pinkrose rockfish, S. simulator,” “pygmy rockfish, S. wilsoni,” and “swordspine rockfish, S. ensifer” in alphabetical order to read as follows:”

All other information previously published remains the same.

Authority: 16 U.S.C. 1801 et seq.

Dated: October 7, 2004.
William T. Hogarth,
Assistant Administrator for Fisheries, National Marine Fisheries Service.

[FR Doc. 04-23062 Filed 10-14-04; 8:45 am]

BILLING CODE 3510-22-S